DEPARTMENT OF ENERGY

Federal Energy Regulatory Commission

[Project Nos. 2525-051, 2546-068, 2560-047, 2522-074 & 2595-065]

Wisconsin Public Service Company; Notice of Availability of Environmental Assessment

September 25, 2003.

In accordance with the National Environmental Policy Act of 1969 and the Federal Energy Regulatory Commission's (Commission) regulations, 18 CFR part 380 (Order No. 486, 52 FR 47897), the Office of Energy Projects' staff has prepared an Environmental Assessment (EA) for Wisconsin Public Service Company's application requesting Commission approval to amend the application regarding project boundaries of five of its projects to remove 9,738 acres of land, of which it proposes to convey approximately 9,349 acres to the Wisconsin Department of Natural Resources and to use 389 acres for development. The five projects are the Caldron Falls Project No. 2525, the Sandstone Rapids Project No. 2546, the Potato Rapids Project No. 2560, the Johnson Falls Project No. 2522, and the High Falls Project No. 2595 all located on the Peshtigo River in the counties of Marinette and Oconto, Wisconsin. The U.S. Bureau of Land Management owns and manages approximately 10 acres of federal lands (consisting of islands in the Peshtigo River) within the boundaries of the High Falls, Sandstone Rapids, and Potato Rapids projects.

The EA contains the staff's analysis of the potential environmental impacts of the proposal and concludes that approval of the proposal would not constitute a major federal action significantly affecting the quality of the human environment.

A copy of the EA is attached to a Commission Order titled “Order Granting Motions To Intervene, Reinstating Request for Rehearing, Granting Rehearing In Part, And Granting With Conditions Application To Amend Project Boundaries” issued on September 15, 2003 (See 104 FERC & 61,295) which is available for review at the Commission in the Public Reference Room, or it may be viewed on the Commission's Web site at http://www.ferc.gov using the “AeLibrary” link. Enter the docket number (prefaced by P-) and excluding the last three digits, in the docket number field to access the document. For assistance, please contact FERC Online Support at FERCOnlineSupport@ferc.gov or toll-free (866) 208-3676, or for TTY, contact (202) 502-8659.

For further information, contact Jean Potvin at 202-502-8928.

Linda Mitry,
Acting Secretary.

[FR Doc. 03-24886 Filed 10-1-03; 8:45 am]

BILLING CODE 6717-01-P